SUSQUEHANNA RIVER BASIN COMMISSION

Actions Taken at March 15, 2012, Meeting

AGENCY: Susquehanna River Basin Commission.

ACTION: Notice.

SUMMARY: As part of its regular business meeting held on March 15, 2012, in Harrisburg, Pennsylvania, the Commission took the following actions: (1) Reconsidered certain actions taken at its December 15, 2011, public hearing; (2) upon reconsideration, approved or denied the applications of certain water resources projects, originally considered at the December 15, 2011, public hearing; (3) rescinded approval for one additional water resources project; (4) approved, tabled or denied the applications of certain additional water resources projects; and (5) took additional actions as set forth in the Supplementary Information below.

DATES: March 15, 2012.

ADDRESSES: Susquehanna River Basin Commission, 1721 N. Front Street, Harrisburg, PA 17102-2391.

FOR FURTHER INFORMATION CONTACT: Richard A. Cairo, General Counsel, telephone: (717) 238-0423, ext. 306; fax: (717) 238-2436; email: rcairo@srbc.net. Regular mail inquiries may be sent to the above address. See also Commission Web site at www.srbc.net.

SUPPLEMENTARY INFORMATION: In addition to its related actions on projects identified in the summary above and the listings below, the following items were also presented or acted on at the business meeting: (1) Adoption of a resolution encouraging the use of lesser quality waters; (2) approval for expenditures for the Susquehanna River Flow Management Project; (3) adoption of an investment policy statement and amendments of the By-Laws; (4) approval of a partial waiver of the fee for transfer of approvals to SWEPI, LP; (5) adoption of the revised operating budget and a capital budget for FY-2013; (6) approval for staff to release a draft Low Flow Protection Policy for public review and comment; (7) ratification of a settlement agreement with C&N Dining; and (8) ratification of grants/contracts. The Commission also took the following specific actions:

Project Applications Originally Considered at the December 15, 2011, Public Hearing, Approved

Upon reconsideration, the Commission approved the following project applications originally acted upon at the December 15, 2011, public hearing:

1. Project Sponsor: Bioenergy International, LLC. Project Facility: Bionol Clearfield, LLC, Clearfield Borough, Clearfield County, Pa. Modification to conditions of the surface water withdrawal approval (Docket No. 20070904).

2. Project Sponsor: Borough of Ephrata. Project Facility: Ephrata Area Joint Authority, Ephrata Borough, Lancaster County, Pa. Modification to conditions of the groundwater withdrawal approval (Docket No. 20110902).

3. Project Sponsor and Facility: Carrizo (Marcellus), LLC (Mosquito Creek-2), Karthaus Township, Clearfield County, Pa. Surface water withdrawal of up to 2.160 mgd.

4. Project Sponsor and Facility: Central New York Oil and Gas Company, LLC (Susquehanna River), Wilmot Township, Bradford County, Pa. Surface water withdrawal of up to 0.540 mgd.

5. Project Sponsor and Facility: Central New York Oil and Gas Company, LLC, Wilmot Township, Bradford County, Pa. Consumptive water use of up to 0.105 mgd.

6. Project Sponsor and Facility: Chesapeake Appalachia, LLC (Susquehanna River—Babcock), Ulster Township, Bradford County, Pa. Surface water withdrawal of up to 3.000 mgd.

7. Project Sponsor and Facility: Chesapeake Appalachia, LLC (Susquehanna River—Elmglade), Wilmot Township, Bradford County, Pa. Surface water withdrawal of up to 2.016 mgd.

8. Project Sponsor and Facility: Chesapeake Appalachia, LLC (Towanda Creek—Sechrist), Canton Township, Bradford County, Pa. Surface water withdrawal of up to 0.504 mgd.

9. Project Sponsor: Clark Trucking, LLC. Project Facility: Northeast Division (Lycoming Creek), Lewis Township, Lycoming County, Pa. Surface water withdrawal of up to 0.500 mgd.

10. Project Sponsor: Clark Trucking, LLC. Project Facility: Northeast Division (Muncy Creek), Muncy Creek Township, Lycoming County, Pa. Surface water withdrawal of up to 0.700 mgd.

11. Project Sponsor and Facility: Dunn Lake LLC (Dunn Pond), Ararat Township, Susquehanna County, Pa. Surface water withdrawal of up to 0.999 mgd.

12. Project Sponsor and Facility: EXCO Resources (PA), LLC (Muncy Creek—McClintock), Penn Township, Lycoming County, Pa. Surface water withdrawal of up to 1.500 mgd.

13. Project Sponsor: Glenn O. Hawbaker, Inc. Project Facility: Greens Landing Aggregate Plant, Athens Township, Bradford County, Pa. Surface water withdrawal of up to 0.249 mgd.

14. Project Sponsor: Glenn O. Hawbaker, Inc. Project Facility: Greens Landing Aggregate Plant, Athens Township, Bradford County, Pa. Consumptive water use of up to 0.249 mgd.

15. Project Sponsor: Hazleton Creek Properties, LLC. Project Facility: Hazleton Mine Reclamation, Hazleton City, Luzerne County, Pa. Modification to increase groundwater withdrawal by an additional 0.145 mgd, for a total of 0.200 mgd (30-day average) (Docket No. 20110307).

16. Project Sponsor and Facility: Keystone Clearwater Solutions, LLC (Babb Creek), Morris Township, Tioga County, Pa. Surface water withdrawal of up to 0.950 mgd.

17. Project Sponsor and Facility: Sugar Hollow Trout Park and Hatchery, Eaton Township, Wyoming County, Pa. Modification to project features and conditions of the groundwater withdrawal approval (Docket No. 20100913).

18. Project Sponsor and Facility: Sugar Hollow Water Services, LLC (Susquehanna River—Chellis), Eaton Township, Wyoming County, Pa. Surface water withdrawal of up to 1.500 mgd.

19. Project Sponsor: The Municipal Authority of the Borough of Berlin. Project Facility: Berlin Borough Municipal Authority, Allegheny Township, Somerset County, Pa. Modification to conditions of the groundwater withdrawal approval (Docket No. 19980702).

20. Project Sponsor and Facility: Walker Township Water Association, Walker Township, Centre County, Pa. Modification to increase the total groundwater system withdrawal limit from 0.523 mgd to 0.753 mgd (30-day average) (Docket No. 20070905).

21. Project Sponsor and Facility: Williams Production Appalachia, LLC (Middle Branch Wyalusing Creek), Forest Lake Township, Susquehanna County, Pa. Surface water withdrawal of up to 0.750 mgd.

22. Project Sponsor and Facility: Williams Production Appalachia, LLC (Snake Creek-2), Franklin Township, Susquehanna County, Pa. Surface water withdrawal of up to 0.999 mgd.

23. Project Sponsor and Facility: Williams Production Appalachia, LLC (Susquehanna River), Great Bend Township, Susquehanna County, Pa. Commission-initiated modification to project features and conditions of the surface water withdrawal approval (Docket No. 20090303), making a correction and reducing the approved surface water withdrawal amount from 3.00 mgd to 1.00 mgd.

24. Project Sponsor and Facility: Williams Production Appalachia, LLC (Susquehanna River-2), Great Bend Township, Susquehanna County, Pa. Surface water withdrawal of up to 2.000 mgd.

Project Application Originally Considered at the December 15, 2011, Public Hearing, Denied

Upon reconsideration, the Commission denied the following project application originally acted upon at the December 15, 2011, public hearing:

1. Project Sponsor: Anadarko E&P Company LP. Project Facility: Sproul State Forest—Council Run, Snow Shoe Township, Centre County, Pa. Application for groundwater withdrawal of up to 0.715 mgd (30-day average) from Well PW-11.

Rescission of Project Approval

The Commission rescinded approval for the following project:

1. Project Sponsor and Facility: Texas Eastern Transmission LP (Susquehanna River) (Docket No. 20110314), East Donegal Township, Lancaster County, Pa.

Project Applications Approved

The Commission approved the following project applications:

1. Project Sponsor and Facility: Anadarko E&P Company LP (Lycoming Creek), Lewis Township, Lycoming County, Pa. Surface water withdrawal of up to 1.340 mgd (peak day).

2. Project Sponsor and Facility: Aqua Infrastructure, LLC (West Branch Susquehanna River), Piatt Township, Lycoming County, Pa. Surface water withdrawal of up to 3.000 mgd (peak day).

3. Project Sponsor and Facility: Black Bear Waters, LLC (Lycoming Creek), Lewis Township, Lycoming County, Pa. Surface water withdrawal of up to 0.400 mgd (peak day).

4. Project Sponsor and Facility: Blossburg Municipal Authority, Bloss Township, Tioga County, Pa. Groundwater withdrawal of up to 0.396 mgd (30-day average) from Route 15 Well.

5. Project Sponsor and Facility: Buck Ridge Stone, LLC (Salt Lick Creek), New Milford Township, Susquehanna County, Pa. Modification to increase surface water withdrawal by an additional 0.637 mgd, for a total of 0.720 mgd (peak day) (Docket No. 20100905).

6. Project Sponsor and Facility: Cabot Oil & Gas Corporation (Susquehanna River), Susquehanna Depot Borough, Susquehanna County, Pa. Modification to increase surface water withdrawal by an additional 0.780 mgd, for a total of 1.500 mgd (peak day) (Docket No. 20080908).

7. Project Sponsor and Facility: Cabot Oil & Gas Corporation (Susquehanna River), Great Bend Township, Susquehanna County, Pa. Modification to increase surface water withdrawal by an additional 1.280 mgd, for a total of 2.000 mgd (peak day) (Docket No. 20080905).

8. Project Sponsor and Facility: Carrizo (Marcellus), LLC (Middle Branch Wyalusing Creek), Forest Lake Township, Susquehanna County, Pa. Modification to conditions of the surface water withdrawal approval (Docket No. 20110604).

9. Project Sponsor and Facility: Carrizo (Marcellus), LLC (Moshannon Creek), Decatur Township, Clearfield County, Pa. Surface water withdrawal of up to 2.590 mgd (peak day).

10. Project Sponsor and Facility: Carrizo (Marcellus), LLC (Unnamed Tributary of Middle Branch Wyalusing Creek), Forest Lake Township, Susquehanna County, Pa. Modification to conditions of the surface water withdrawal approval (Docket No. 20110605).

11. Project Sponsor and Facility: EQT Production Company (Bennett Branch Power), Jay Township, Elk County, Pa. Surface water withdrawal of up to 2.500 mgd (peak day).

12. Project Sponsor and Facility: EQT Production Company (Wilson Creek), Duncan Township, Tioga County, Pa. Surface water withdrawal of up to 0.740 mgd (peak day).

13. Project Sponsor: IBM Corporation. Project Facility: Endicott Facility, Village of Endicott, Broome County, N.Y. Modification to increase total groundwater system withdrawal by an additional 0.499 mgd, for a total of 1.509 mgd (30-day average) (Docket No. 20090329).

14. Project Sponsor and Facility: Keystone Landfill, Inc., Dunmore Borough, Lackawanna County, Pa. Modification to increase groundwater withdrawal by an additional 0.150 mgd, for a total of 0.160 mgd (30-day average) (Docket No. 20080611).

15. Project Sponsor and Facility: Keystone Landfill, Inc., Dunmore Borough, Lackawanna County, Pa. Modification to increase consumptive water use by an additional 0.260 mgd, for a total of up to 0.360 mgd (30-day average) (Docket No. 20080611).

16. Project Sponsor: Pine Creek Municipal Authority. Project Facility: Wastewater Treatment Plant, Pine Creek Township, Clinton County, Pa. Withdrawal of treated wastewater effluent of up to 0.999 mgd.

17. Project Sponsor and Facility: Roaring Spring Water-Division of Roaring Spring Blank Book (Roaring Spring), Roaring Spring Borough, Blair County, Pa. Surface water withdrawal of up to 0.302 mgd (peak day).

18. Project Sponsor and Facility: Roaring Spring Water-Division of Roaring Spring Blank Book, Roaring Spring Borough, Blair County, Pa. Consumptive water use of up to 0.255 mgd (30-day average).

19. Project Sponsor and Facility: Southwestern Energy Production Company (Blockhouse Creek), Jackson Township, Lycoming County, Pa. Surface water withdrawal of up to 0.999 mgd (peak day).

20. Project Sponsor and Facility: Southwestern Energy Production Company (Susquehanna River), Oakland Township, Susquehanna County, Pa. Surface water withdrawal of up to 3.000 mgd (peak day).

21. Project Sponsor and Facility: Southwestern Energy Production Company (Tunkhannock Creek), Lenox Township, Susquehanna County, Pa. Surface water withdrawal of up to 1.500 mgd (peak day).

22. Project Sponsor and Facility: SWEPI LP (Cowanesque River—Egleston), Nelson Township, Tioga County, Pa. Modification to increase surface water withdrawal by an additional 0.267 mgd, for a total of 0.534 mgd (peak day) (Docket No. 20100604).

Project Applications Tabled

The following project applications were tabled by the Commission:

1. Project Sponsor and Facility: Aqua Resources, Inc. (Susquehanna River), Athens Township, Bradford County, Pa. Application for surface water withdrawal of up to 0.900 mgd (peak day).

2. Project Sponsor and Facility: Empire Kosher Poultry, Inc., Walker Township, Juniata County, Pa. Modification to increase total groundwater system withdrawal by an additional 0.499 mgd, for a total of 1.269 mgd (30-day average) (Docket No. 20030809).

3. Project Sponsor and Facility: Jo Jo Oil Company, Inc. (Tunkhannock Creek), Tunkhannock Township, Wyoming County, Pa. Application for surface water withdrawal of up to 0.999 mgd (peak day).

4. Project Sponsor and Facility: Northwestern Lancaster County Authority, Penn Township, Lancaster County, Pa. Application for groundwater withdrawal of up to 0.324 mgd (30-day average) from Well 2.

5. Project Sponsor and Facility: Northwestern Lancaster County Authority, Penn Township, Lancaster County, Pa. Application for groundwater withdrawal of up to 1.000 mgd (30-day average) from Well 3.

6. Project Sponsor and Facility: Southwestern Energy Production Company (East Branch Tunkhannock Creek), Lenox Township, Susquehanna County, Pa. Application for surface water withdrawal of up to 1.500 mgd (peak day).

7. Project Sponsor: Viking Energy of Northumberland, LLC. Project Facility: Power Plant, Point Township, Northumberland County, Pa. Application for consumptive water use of up to 0.387 mgd (30-day average).

8. Project Sponsor: Viking Energy of Northumberland, LLC. Project Facility: Power Plant, Point Township, Northumberland County, Pa. Application for groundwater withdrawal of up to 0.172 mgd from Well 1, and a total system withdrawal limit of up to 0.391 mgd (30-day average).

9. Project Sponsor: Viking Energy of Northumberland, LLC. Project Facility: Power Plant, Point Township, Northumberland County, Pa. Application for groundwater withdrawal of up to 0.172 mgd from Well 2, and a total system withdrawal limit of up to 0.391 mgd (30-day average).

10. Project Sponsor: Viking Energy of Northumberland, LLC. Project Facility: Power Plant, Point Township, Northumberland County, Pa. Application for groundwater withdrawal of up to 0.172 mgd from Well 4, and a total system withdrawal limit of up to 0.391 mgd (30-day average).

Project Applications Denied

The following project applications were denied by the Commission:

1. Project Sponsor and Facility: Stanley S. Karp Sr. (Tunkhannock Creek), Nicholson Township, Wyoming County, Pa. Application for surface water withdrawal of up to 0.510 mgd (peak day).

2. Project Sponsor and Facility: Water Treatment Solutions, LLC (South Mountain Lake), Woodward Township, Lycoming County, Pa. Application for surface water withdrawal of up to 0.499 mgd (peak day).

Authority: Pub. L. 91-575, 84 Stat. 1509 et seq., 18 CFR parts 806, 807, and 808.

Dated: March 23, 2012.
Thomas W. Beauduy,
Deputy Executive Director.

[FR Doc. 2012-7528 Filed 3-28-12; 8:45 am]

BILLING CODE 7040-01-P